DEPARTMENT OF ENERGY

Notice of Orders Issued Under Section 3 of the Natural Gas Act During July 2017

| FE Docket Nos.
DELFIN LNG, LLC | 13-147-LNG
LOUISIANA LNG ENERGY LLC | 14-19-LNG; 14-29-LNG
BNP PARIBAS ENERGY CANADA CORP | 15-176-NG
NEW ENGLAND NG SUPPLY LIMITED | 16-103-NG
ALTAGAS MARKETING (U.S.) INC | 17-74-NG
OZARK GAS LLC | 17-81-NG
SEMPRA LNG INTERNATIONAL, LLC | 17-78-NG
CASTLETON COMMODITIES CANADA LP | 17-75-NG
CONOCOPHILLIPS COMPANY | 17-76-NG
TRAILSTONE ENERGY MARKETING DE MEXICO, S. DE R.L. DE C.V | 17-80-NG
OXY ENERGY CANADA, INC | 17-77-NG
CENOVUS ENERGY MARKETING SERVICES LTD | 17-84-NG
UNIPER GLOBAL COMMODITIES NORTH AMERICA LLC | 17-83-NG
ELEMENT MARKETS RENEWABLE ENERGY LLC | 17-82-NG
AVISTA CORPORATION | 17-85-NG; 15-116-NG
PENTAGON ENERGY, LLC | 17-73-CNG
TUSCAROWA TRADING, LLC | 17-88-NG
SEVEN GENERATIONS ENERGY (US) CORP | 17-91-NG
NEW WORLD GLOBAL, LLC | 17-89-NG
POTELCO, INC | 17-92-LNG
CITIGROUP ENERGY INC | 17-94-LNG
SAN DIEGO GAS & ELECTRIC COMPANY | 17-93-NG
REPSOL ENERGY NORTH AMERICA CORPORATION | 17-95-NG
STATOIL NATURAL GAS LLC | 17-96-NG
PORTLAND GENERAL ELECTRIC COMPANY | 17-97-NG

AGENCY: Office of Fossil Energy, Department of Energy.

ACTION: Notice of orders.

SUMMARY: The Office of Fossil Energy (FE) of the Department of Energy gives notice that during July 2017, it issued orders under section 3 of the Natural Gas Act, 15 U.S.C. 717b, as summarized in the attached appendix. These orders may be found on the FE Web site at http://energy.gov/fe/listing-doefe-authorizationsorders-issued-2017.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on October 20, 2017.
John A. Anderson,
Director, Office of Regulation and International Engagement, Office of Oil and Natural Gas.

Appendix

DOE/FE Orders Granting Import/Export Authorizations
No Order Number Assigned | 07/28/17 | 13-147-LNG | Delfin LNG, LLC | Order granting request for Rehearing for the Purpose of Further Consideration.
3482-A | 07/24/17 | 14-19-LNG; 14-29-LNG. | Louisiana LNG, Energy LLC | Order 3482-A vacating long-term, Multi-contract authority to export LNG by vessel to Free Trade Agreement Nations and Dismissing Application to export LNG by vessel to Non-free Trade Agreement Nations.
3776-A | 07/28/17 | 15-176-NG | BNP Paribas Energy Canada Corp | Order 3776-A vacating authority to import/export natural gas from/to Canada.
3995-A | 07/13/17 | 16-103-NG | New England NG Supply Limited | Order 3995-A vacating authority long-term authority to export natural gas to Canada.
4056 | 07/11/17 | 17-74-NG | AltaGas Marketing (U.S.) Inc | Order 4056 granting blanket authority to import/export natural gas from/to Canada.
4057 | 07/11/17 | 17-81-NG | Ozark Gas LLC | Order 4057 granting blanket authority to export natural gas to Mexico.
4058 | 07/11/17 | 17-78-NG | Sempra LNG International, LLC | Order 4058 granting blanket authority to import/export natural gas from/to Mexico.
4059 | 07/13/17 | 17-75-NG | Castleton Commodities Canada LP | Order 4059 granting blanket authority to import/export natural gas from/to Canada.
4060 | 07/17/17 | 17-76-NG | ConocoPhillips Company | Order 4060 granting blanket authority to import/export natural gas from/to Canada/Mexico.
4061 | 07/17/17 | 17-80-NG | TrailStone Energy Marketing de Mexico, S. de R.L. de C.V | Order 4061 granting blanket authority to import/export natural gas from/to Mexico.
4062 | 07/17/17 | 17-77-NG | Oxy Energy Canada, Inc | Order 4062 granting blanket authority to import/export natural gas from/to Canada.
4063 | 07/17/17 | 17-84-NG | Cenovus Energy Marketing Services Ltd | Order 4063 granting blanket authority to import natural gas from Canada.
4064 | 07/17/17 | 17-83-NG | Uniper Global Commodities North America LLC | Order 4064 granting blanket authority to import/export natural gas from/to Canada.
4065 | 07/17/17 | 17-82-NG | Element Markets Renewable Energy LLC | Order 4065 granting blanket authority to import/export natural gas from/to Canada/Mexico.
4066 | 07/21/17 | 17-85-NG; 15-116-NG. | Avista Corporation | Order 4066 granting blanket authority to import/export natural gas from/to Canada, and vacating prior authorization.
4067 | 07/28/17 | 17-73-CNG | Pentagon Energy, LLC | Order 4067 granting blanket authority to export CNG to Mexico by vessel and truck.
4068 | 07/26/17 | 17-88-NG | Tuscarowa Trading, LLC | Order 4068 granting blanket authority to export natural gas to Mexico.
4069 | 07/25/17 | 17-91-NG | Seven Generations Energy (US) Corp | Order 4069 granting blanket authority to import natural gas from Canada.
4070 | 07/31/17 | 17-89-NG | New World Global, LLC | Order 4070 granting blanket authority to export natural gas to Mexico, to export LNG to Mexico by truck, and vacating prior authorization.
4071 | 07/31/17 | 17-92-LNG | Potelco, Inc | Order 4071 granting blanket authority to import LNG from Canada by truck.
4072 | 07/28/17 | 17-94-LNG | Citigroup Energy Inc | Order 4072 granting blanket authority to import LNG from various international sources by vessel.
4073 | 07/27/17 | 17-93-NG | San Diego Gas & Electric Company | Order 4073 granting blanket authority to import/export natural gas from/to Mexico.
4074 | 07/28/17 | 17-95-NG | Repsol Energy North America Corporation | Order 4074 granting blanket authority to import/export natural gas from/to Mexico, to import/export LNG from/to Mexico by truck, to import/export LNG from/to Mexico by vessel.
4075 | 07/28/17 | 17-96-NG | Statoil Natural Gas LLC | Order 4075 granting blanket authority to import natural gas from Canada.
4076 | 07/28/17 | 17-97-NG | Portland General Electric Company | Order 4076 granting blanket authority to import/export natural gas from/to Canada.

[FR Doc. 2017-23170 Filed 10-24-17; 8:45 am]

BILLING CODE 6450-01-P